SECURITIES AND EXCHANGE COMMISSION

17 CFR Part 249

[Release Nos. 33-8397A; 34-49403A; International Series Release No. 1274A; File No. S7-15-04]

RIN 3235-AI92

First-Time Application of International Financial Reporting Standards; Correction

AGENCY: Securities and Exchange Commission.

ACTION: Proposed rule; correction.

SUMMARY: This document corrects the file number in the preamble to a proposed amendment to Form 20-F published in the Federal Register of Thursday, March 18, 2004 (69 FR 12903) a one-time accommodation relating to financial statements prepared under International Financial Reporting Standards for foreign private issuers registered with the SEC. The file number should read as set forth above.

FOR FURTHER INFORMATION CONTACT: Questions concerning this correction should be directed to Frances Sienkiewicz, Office of the Secretary, at (202) 942-7072.

Correction

In proposed amendment FR Doc. 04-5982, beginning on page 12903 in the issue of March 18, 2004, make the following corrections:

1. On page 12904, first column, in the ADDRESSES section, next to last line, revise “S7-13-04” to read “S7-15-04.”

2. On page 12916, first column, in E. Request for Comment section, in the 17th and 13th lines from the bottom of that section, revise “S7-13-04” to read “S7-15-04.”

Dated: March 18, 2004.
Margaret H. McFarland,
Deputy Secretary.

[FR Doc. 04-6588 Filed 3-24-04; 8:45 am]

BILLING CODE 8010-01-P